DEPARTMENT OF THE TREASURY

Office of Thrift Supervision

Savings and Loan Holding Company Registration Statement—H-(b)10

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before January 7, 2009. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Ira L. Mills at ira.mills@ots.treas.gov (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Savings and Loan Holding Company Registration Statement—H-(b)10.

OMB Number: 1550-0020.

Form Number: H-(b)10.

Description: The Statement is used to collect information concerning the acquisition, as well as any changes to intercompany relationships of the savings and loan holding company and its subsidiaries since submission of the holding company acquisition application.

OTS reviews the Statement for adequacy of answers to items and completeness in all material respects. In particular, OTS reviews each Statement to determine whether there has been adequate disclosure of pertinent facts. The Statement provides factual information concerning the date of consummation of transactions and the number of shares acquired whereas estimates of such information are provided in the application. In addition, a requirement is contained in the Statement concerning changes to information filed during the application process.

Type of Review: Extension of a currently approved collection.

Affected Public: Business or other for-profit.

Estimated Number of Respondents: 65.

Estimated Number of Responses: 65.

Estimated Burden Hours per Response: 8 hours.

Estimated Frequency of Response: Other; Once, on becoming an S& L holding company.

Estimated Total Burden: 520 hours.

Clearance Officer: Ira L. Mills, (202) 906-6531, Office of Thrift Supervision, 1700 G Street, NW., Washington, DC 20552.

Dated: December 2, 2008.
Deborah Dakin,
Senior Deputy Chief Counsel, Regulations and Legislation Division.

[FR Doc. E8-28895 Filed 12-5-08; 8:45 am]

BILLING CODE 6720-01-P